DEPARTMENT OF LABOR

Employment and Training Administration

[NAFTA-3789]

McCain Foods, Burley, ID; Notice of Termination of Investigation

Pursuant to Section 221 of the Trade Act of 1974, an investigation was initiated on March 7, 2000, in response to a petition filed on the same date on behalf of workers at McCain Foods, Burley, Idaho.

The company official submitting the petition has requested that the petition be withdrawn. Consequently, further investigation in this case would serve no purpose, and the investigation has been terminated.

Signed in Washington, D.C. this 4th day of April, 2000.
Grant D. Beale,
Program Manager, Division of Trade Adjustment Assistance.

[FR Doc. 00-8924 Filed 4-10-00; 8:45 am]

BILLING CODE 4510-30-M